DEPARTMENT OF THE INTERIOR

Bureau of Land Management

[LLCON01000 L14300000.ES0000; COC-73959]

Notice of Realty Action: Recreation and Public Purposes Act Classification and Lease/Conveyance of Public Land, La Plata County, CO

AGENCY: Bureau of Land Management, Interior.

ACTION: Notice of realty action.

SUMMARY: The Bureau of Land Management (BLM) has examined and found suitable for classification for lease and subsequent conveyance to the City of Durango, under the provisions of the Recreation and Public Purposes Act (R&PP), as amended, and the Taylor Grazing Act, approximately 3.859 acres of public land in La Plata County, Colorado. The City of Durango proposes to use the land for construction of a storm water treatment facility to filter oils and other toxins found in storm water before discharging it into the Animas River.

DATES: Interested parties may submit written comments regarding the proposed classification for lease and subsequent conveyance until November 4, 2013.

ADDRESSES: Please submit your written comments to the Associate Field Manager, BLM Tres Rios Field Office, 15 Burnett Court, Durango, CO 81301. Comments received in electronic form such as email or facsimile will not be considered.

FOR FURTHER INFORMATION CONTACT: Jennifer Jardine, Realty Specialist, by telephone 970-385-1224 or at the address above. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In accordance with Section 7 of the Taylor Grazing Act (43 U.S.C. 315(f)) and Executive Order No. 6910, the following described public land in La Plata County, Colorado, has been examined and found suitable for classification and lease with subsequent conveyance under the provisions of the R&PP Act, as amended (43 U.S.C. 869 et seq.):

New Mexico Principal Meridian

T. 35 N., R. 9 W.,

Sec. 16, a metes and bound parcel in lot 11, in the incorporated limits of the City of Durango, Colorado, La Plata County Parcel Number 56651630029, described as follows: Beginning at corner No. 1, from which the northeast corner of the southwest quarter of section 16 bears N. 0° 31′ W., 393.1 ft.

From corner No. 1, by metes and bounds,

S. 87° 52′ W., 182.14 feet, along the south right-of-way line of 32nd Street to corner No. 2, thence along a curve to the left, the radius of which is 788.57 feet, 262.42 feet, to corner No. 3;

S. 68° 48′ W., 51.24 ft., to corner No. 4;

S. 0° 28′ E., 288.37 ft., to corner No. 5;

S. 89° 07′ E., 498.8 ft., to corner No. 6;

N. 1° 53′ W., 359.01 ft., to corner No.1, the place of beginning.

The area described contains approximately 3.859 acres in La Plata County, Colorado.

In accordance with the R&PP Act, the City of Durango filed an R&PP application to develop the above-described land as a storm water treatment facility to filter oils and other toxins found in storm water before discharging it into the Animas River. The BLM conducted a Phase I Environmental Site Assessment on April 29, 2013. No hazardous substances, petroleum products or recognized environmental conditions were identified on the parcel; no further inquiry is needed to assess Recognized Environmental Conditions.

The land is not needed for any Federal purposes. The lease and subsequent conveyance is consistent with the BLM San Juan/San Miguel Record of Decision and Approved Resource Management Plan dated September 5, 1985, and is in the public interest. The BLM has prepared an environmental assessment analyzing the City of Durango's application and the proposed development and management plans.

A conveyance will be subject to the provisions of the R&PP Act and applicable regulations prescribed by the Secretary of the Interior, and the following reservation to the United States:

A reservation to the United States for ditches and canals constructed by the authority of the United States pursuant to the Act of August 30, 1890 (43 U.S.C. 945).

A conveyance will be subject to the following terms and conditions:

1. All valid existing rights documented on the official public land records at the time of patent issuance.

2. A right-of-way across the above-described lands for electrical power transmission or distribution line purposes granted to La Plata Electric Association, its successors or assigns, by right-of-way COC-36667 pursuant to the Act of October 21, 1976 (90 Stat. 2776, 43 U.S.C. 1761).

3. A right-of-way across the above-described lands for electrical power transmission or distribution line purposes granted to La Plata Electric Association, its successors or assigns, by right-of-way COC-56560 pursuant to the Act of October 21, 1976 (90 Stat. 2776, 43 U.S.C. 1761).

4. A right-of-way across the above-described lands for a road granted to the City of Durango, its successors or assigns, by right-of-way COC-57658 pursuant to the Act of October 21, 1976 (90 Stat. 2776, 43 U.S.C. 1761).

5. Any other valid rights-of-way that may exist at the time of conveyance.

6. An indemnification clause protecting the United States from claims arising out of the patentee's use, occupancy, or operations on the land.

7. Pursuant to the requirements established by Section 120(h) of the Comprehensive Environmental Response, Compensation and Liability Act (42 U.S.C. 9620(h)), as amended by the Superfund Amendments and Reauthorization Act of 1988, (100 Stat. 1670), a notice that states that the above-described parcel was examined and no evidence was found to indicate that any hazardous substances were stored for 1 year or more, nor had any hazardous substances been disposed of or released on the subject property.

Upon publication of this notice in the Federal Register, the parcel will be segregated from all other forms of appropriation under the public land laws, except for lease and subsequent conveyance under the R&PP Act. Mineral rights are held by third parties and the above segregation does not apply to them.

Classification Comments: Interested persons may submit comments involving the suitability of the land for development as a storm water treatment facility. Comments on the classification are restricted to whether the land is physically suited for the proposal, whether the use will maximize the future use or uses of the land, whether the use is consistent with local planning and zoning, or whether the use is consistent with State and Federal programs.

Application Comments: Interested persons may also submit comments on the application, including the notification of the BLM of any encumbrances or other claims relating to the parcel, and regarding the specific use proposed in the application and plan of development; whether the BLM followed proper administrative procedures in reaching the decision to lease and convey the land under the R&PP Act; or any other factors not directly related to the suitability of the land for a storm water treatment facility.

Before including your address, phone number, email address, or any other personal identifying information in your comment, you should be aware that your entire comment—including your personal identifying information—may be made publicly available at any time. While you can ask us in your comment to withhold your personal identifying information from public review, we cannot guarantee that we will be able to do so.

Any adverse comments will be reviewed by the BLM Colorado State Director. In the absence of any adverse comments, this realty action will become effective on November 18, 2013.

The land will not be offered for lease and subsequent conveyance until after the classification becomes effective.

Authority: 43 CFR 2741.5.

Helen M. Hankins,
BLM Colorado State Director.

[FR Doc. 2013-22662 Filed 9-17-13; 8:45 am]

BILLING CODE 4310-JB-P